DEPARTMENT OF THE INTERIOR

National Park Service

[NPS-WASO-NRNHL-15161; PPWOCRADI0, PCU00RP14.R50000]

National Register of Historic Places; Notification of Pending Nominations and Related Actions

Nominations for the following properties being considered for listing or related actions in the National Register were received by the National Park Service before March 1, 2014. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by April 11, 2014. Before including your address, phone number, email address, or other personal identifying information in your comment, you should be aware that your entire comment—including your personal identifying information—may be made publicly available at any time. While you can ask us in your comment to withhold your personal identifying information from public review, we cannot guarantee that we will be able to do so.

Dated: March 4, 2014.
J. Paul Loether,
Chief, National Register of Historic Places/National Historic Landmarks Program.

CALIFORNIA

Contra Costa County

Tassajara One Room School, 1650 Finley Rd., Danville, 14000135

San Diego County

Peterson, Robert O.—Russell Forester House, 567 Gage Ln., San Diego, 14000136

MAINE

Kennebec County

Bond Street Historic District, 8, 9, 12, 18, 21, 22 & 25 Bond St., Augusta, 14000137

Foster—Redington House, 8 Park Place, Waterville, 14000138

Washington County

Union Meeting House, 153 US 1, Whiting, 14000139

MINNESOTA

Ramsey County

Indian Mounds Park Mound Group, (Woodland Tradition in Minnesota MPS) 1075 Mounds Blvd., St. Paul, 14000140

MISSOURI

Jackson County

Commerce Tower, 911 Main St., Kansas City, 14000141

Sweeney Automobile and Tractor School, 215 W. Pershing Rd., Kansas City, 14000142

MONTANA

Fergus County

Judith Landing Historic District (Boundary Increase), Dog Creek Rd., Judith, 14000143

NEW YORK

Monroe County

Miller, Romanta T., House, 1089 Bowerman Rd., Wheatland, 14000144

Niagara County

First Presbyterian Church, 311 1st St., Rainbow Blvd., N., Niagara Falls, 14000145

VIRGINIA

Arlington County

Arlington National Cemetery Historic District, 1 Memorial Ave., Arlington, 14000146

Fauquier County

Paradise, 158 Winchester St., Warrenton, 14000147

Loudoun County

Little River Turnpike Bridge, US 50, Aldie, 14000148

Prince Edward County

Moton, Robert Russa, Boyhood Home, 4162 Lockett Rd., Rice, 14000149

WISCONSIN

Columbia County

Lodi Downtown Historic District, 133, 137-139, 143, 147, 157, and 161-165 S. Main St., Lodi, 08000980

A request for removal has been made for the following resource:

SOUTH DAKOTA

Haakon County

Bank of Midland Building, Main St., Midland, 86001481

[FR Doc. 2014-06752 Filed 3-26-14; 8:45 am]

BILLING CODE 4312-51-P